DEPARTMENT OF TRANSPORTATION

Federal Aviation Administration

14 CFR Part 39

[Docket No. FAA-2010-0027; Directorate Identifier 2008-NM-204-AD; Amendment 39-16642; AD 2011-07-05]

RIN 2120-AA64

Airworthiness Directives; Sicma Aero Seat 9140, 9166, 9173, 9174, 9184, 9188, 9196, 91B7, 91B8, 91C0, 91C2, 91C4, 91C5, and 9301 Series Passenger Seat Assemblies; and Sicma Aero Seat 9501311-05, 9501301-06, 9501311-15, 9501301-16, 9501441-30, 9501441-33, 9501311-55, 9501301-56, 9501441-83, 9501441-95, 9501311-97, and 9501301-98 Passenger Seat Assemblies; Installed on Various Transport Category Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Cracks have been found on seat backrest links P/N (part number) 90-000200-104-1 and 90-000200-104-2. These cracks can significantly affect the structural integrity of seat backrests. * * *

Failure of the backrest links could result in injury to an occupant during emergency landing conditions. We are issuing this AD to require actions to correct the unsafe condition on these products.

DATES: This AD becomes effective May 6, 2011.

The Director of the Federal Register approved the incorporation by reference of a certain publication listed in this AD as of May 6, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Jeffrey Lee, Aerospace Engineer, Boston Aircraft Certification Office, FAA, Engine & Propeller Directorate, 12 New England Executive Park, Burlington, MA 01803; telephone (781) 238-7161; fax (781) 238-7170.

SUPPLEMENTARY INFORMATION:

Discussion

We issued a notice of proposed rulemaking (NPRM) to amend 14 CFR part 39 to include an AD that would apply to the specified products. That NPRM was published in the Federal Register on January 13, 2010 (75 FR 1731). That NPRM proposed to correct an unsafe condition for the specified products. The MCAI states:

Cracks have been found on seat backrest links P/N (part number) 90-000200-104-1 and 90-000200-104-2. These cracks can significantly affect the structural integrity of seat backrests. Therefore a life limit is introduced on the links. On 9g seats also affected by this problem, stronger unlimited life limits have been developed and their installation has been rendered mandatory. However, on 16g seats the affected links have a direct influence on certification dynamic tests and cannot be replaced by similar stronger links without performing again all dynamic tests for each seat part number.

Failure of the backrest links could result in injury to an occupant during emergency landing conditions. The required actions include a general visual inspection for cracking of backrest links, replacement with new links if cracking is found, and eventual replacement of all links with new links. You may obtain further information by examining the MCAI in the AD docket.

Comments

We gave the public the opportunity to participate in developing this AD. We considered the comments received.

Request To Revise Service Bulletin Reference

Boeing requested that we update all references to Sicma Aero Seat Service Bulletin 90-25-012, Issue 4, dated December 19, 2001, to Issue 5, dated March 19, 2004, including Annex 1, Issue 2, dated March 19, 2004. The commenter justified the request by stating that seat series 91C3 (installed on Boeing Model 737 airplanes) was inadvertently included in Issue 4 of that service bulletin in error, and that Issue 5 of that service bulletin corrects the effectivity by limiting it to those installed seats that are affected. The commenter also requested that we revise the “Relevant Service Information” section of the NPRM to refer to Issue 5 of that service bulletin.

We agree to update the service information in the AD for the reason given. We have revised paragraphs (c), (f)(1) through (f)(4), and (h) of this AD to refer to Sicma Aero Seat Service Bulletin 90-25-012, Issue 5, dated March 19, 2004. We also have added Issue 4 of that service bulletin to paragraph (f)(5) of this AD to give credit for actions done before the effective date of this AD in accordance with Issue 4 of that service bulletin.

We have not changed the “Relevant Service Information” section of the NPRM because that section does not appear in this final rule.

Request To Remove Series 91C3 Seat From the Applicability

Boeing requested that we revise the Applicability, paragraph (c) of the NPRM, to remove seat series 91C3 for the reason stated in the previous comment.

We agree to correct the Applicability of the AD because Sicma Aero Seat Service Bulletin 90-25-012, Issue 5, dated March 19, 2004, corrects the effectivity, and have removed seat series 91C3 from paragraph (c) of this AD.

No Reporting Requirement

We removed paragraph (g)(3) of the NPRM from this final rule because reporting findings is not required.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect 70,073 seats on 163 products of U.S. registry. We also estimate that it will take 1 work-hour per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $5,956,205, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-07-05 Sicma Aero Seat: Amendment 39-16642. Docket No. FAA-2010-0027; Directorate Identifier 2008-NM-204-AD.

Effective Date

(a) This airworthiness directive (AD) becomes effective May 6, 2011.

Affected ADs

(b) None.

Applicability

(c) This AD applies to Sicma Aero Seats 9140, 9166, 9173, 9174, 9184, 9188, 9196, 91B7, 91B8, 91C0, 91C2, 91C4, 91C5, and 9301 series passenger seat assemblies; and Sicma Aero Seats 9501311-05, 9501301-06, 9501311-15, 9501301-16, 9501441-30, 9501441-33, 9501311-55, 9501301-56, 9501441-83, 9501441-95, 9501311-97, and 9501301-98 passenger seat assemblies; identified in Annex 1, Issue 2, dated March 19, 2004, of Sicma Aero Seat Service Bulletin 90-25-012, Issue 5, dated March 19, 2004; that have backrest links part numbers (P/Ns) 90-000200-104-1 and 90-000200-104-2; and that are installed on, but not limited to, the airplanes identified in Table 1 of this AD, certificated in any category.

Table 1—Certain Affected Models
Manufacturer | Model
Airbus | A330-200 and -300 Series Airplanes.
Airbus | A340-200, -300, -500, and -600 Series Airplanes.
The Boeing Company | 777-200, -300, -300ER, and -200LR Series Airplanes.

Note 1: This AD applies to Sicma Aero Seat passenger seat assemblies as installed on any airplane, regardless of whether the airplane has been otherwise modified, altered, or repaired in the area subject to the requirements of this AD. For airplanes that have been modified, altered, or repaired so that the performance of the requirements of this AD is affected, the owner/operator must request approval for an alternative method of compliance according to paragraph (g)(1) of this AD. The request should include an assessment of the effect of the modification, alteration, or repair on the unsafe condition addressed by this AD; and, if the unsafe condition has not been eliminated, the request should include specific proposed actions to address it.

Subject

(d) Air Transport Association (ATA) of America Code 25: Equipment/Furnishings.

Reason

(e) The mandatory continuing airworthiness information (MCAI) states:

Cracks have been found on seat backrest links P/N (part numbers) 90-000200-104-1 and 90-000200-104-2. These cracks can significantly affect the structural integrity of seat backrests. Therefore a life limit is introduced on the links. On 9g seats also affected by this problem, stronger unlimited life limits have been developed and their installation has been rendered mandatory. However, on 16g seats the affected links have a direct influence on certification dynamic tests and cannot be replaced by similar stronger links without performing again all dynamic tests for each seat part number.

Failure of the backrest links could result in injury to an occupant during emergency landing conditions. The required actions include a general visual inspection for cracking of backrest links, replacement with new links if cracking is found, and eventual replacement of all links with new links.

Actions and Compliance

(f) Unless already done, do the following actions.

(1) At the later of the times specified in paragraphs (f)(1)(i) and (f)(1)(ii) of this AD, do a general visual inspection for cracking of the backrest links, P/Ns 90-000200-104-1 and 90-000200-104-2, in accordance with Part One, “Checking Procedure,” of Sicma Aero Seat Service Bulletin 90-25-012, Issue 5, dated March 19, 2004.

(i) Before 6,000 flight hours on the backrest link since new.

(ii) Within 900 flight hours or 5 months after the effective date of this AD, whichever occurs later.

(2) If, during the inspection required by paragraph (f)(1) of this AD, cracking is found between the side of the backrest link and the lock-out pin hole but the cracking does not pass this lock-out pin hole (refer to Figure 2 of Sicma Aero Seat Service Bulletin 90-25-012, Issue 5, dated March 19, 2004): Within 600 flight hours or 3 months after doing the inspection, whichever occurs first, replace both backrest links of the affected seat with new backrest links having the same part number (P/N 90-000200-104-1 or 90-000200-104-2), in accordance with Part Two, “Replacement Procedure,” of Sicma Aero Seat Service Bulletin 90-25-012, Issue 5, dated March 19, 2004.

(3) If, during the inspection required by paragraph (f)(1) of this AD, cracking is found that passes beyond the lock-out pin hole (refer to Figure 2 of Sicma Aero Seat Service Bulletin 90-25-012, Issue 5, dated March 19, 2004): Before further flight, replace both backrest links of the affected seat with new backrest links having the same part numbers (P/N 90-000200-104-1 or 90-000200-104-2), in accordance with Part Two, “Replacement Procedure,” of Sicma Aero Seat Service Bulletin 90-25-012, Issue 5, dated March 19, 2004.

(4) If no cracking is found during the inspection required by paragraph (f)(1) of this AD: At the later of the times specified in paragraphs (f)(4)(i) and (f)(4)(ii) of this AD, replace the links, P/Ns 90-000200-104-1 and 90-000200-104-2, with new backrest links having the same part numbers (P/N 90-000200-104-1 or 90-000200-104-2), in accordance with Part Two, “Replacement Procedure,” of Sicma Aero Seat Service Bulletin 90-25-012, Issue 5, dated March 19, 2004.

(i) Before 12,000 flight hours on the backrest links, P/Ns 90-000200-104-1 and 90-000200-104-2, since new.

(ii) Within 900 flight hours or 5 months after the effective date of this AD, whichever occurs later.

(5) Actions done before the effective date of this AD in accordance with Sicma Aero Seat Service Bulletin 90-25-012, Issue 3, dated October 3, 2001; and Sicma Aero Seat Service Bulletin 90-25-012, Issue 4, dated December 19, 2001; are acceptable for compliance with the corresponding actions of this AD.

FAA AD Differences

Note 2: This AD differs from the MCAI and/or service information as follows: The MCAI specifies doing repetitive inspections for cracking of links having over 12,000 flight hours since new until the replacement of the link is done. This AD does not include those repetitive inspections because we have reduced the required time for replacing those links. This AD requires replacement of the link before 12,000 flight hours since new, or within 900 flight hours or 5 months after the effective date of this AD, whichever occurs later.

Other FAA AD Provisions

(g) The following provisions also apply to this AD:

(1) Alternative Methods of Compliance (AMOCs): The Manager, Boston Aircraft Certification Office, FAA, has the authority to approve AMOCs for this AD, if requested using the procedures found in 14 CFR 39.19. In accordance with 14 CFR 39.19, send your request to your principal inspector or local Flight Standards District Office, as appropriate. If sending information directly to the ACO, send it to ATTN: Jeffrey Lee, Aerospace Engineer, Boston Aircraft Certification Office, FAA, Engine & Propeller Directorate, 12 New England Executive Park, Burlington, MA 01803; telephone (781) 238-7161; fax (781) 238-7170. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI French Airworthiness Directive 2001-605(AB), dated December 12, 2001; and Sicma Aero Seat Service Bulletin 90-25-012, Issue 5, dated March 19, 2004; for related information.

Material Incorporated by Reference

(i) You must use Sicma Aero Seat Service Bulletin 90-25-012, Issue 5, dated March 19, 2004, including Annex 1, Issue 2, dated March 19, 2004, to do the actions required by this AD, unless the AD specifies otherwise.

(1) The Director of the Federal Register approved the incorporation by reference of this service information under 5 U.S.C. 552(a) and 1 CFR part 51.

(2) For service information identified in this AD, contact Sicma Aero Seat, 7, Rue Lucien Coupet, 36100 ISSOUDUN, France; telephone +33 (0) 2 54 03 39 39; fax +33 (0) 2 54 03 39 00; e-mail customerservices@sicma.zodiac.com; Internet http://www.sicma.zodiac.com/en/.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 14, 2011.
Ali Bahrami,
Manager, Transport Airplane Directorate, Aircraft Certification Service.

[FR Doc. 2011-6628 Filed 3-31-11; 8:45 am]

BILLING CODE 4910-13-P